ENVIRONMENTAL PROTECTION AGENCY

[FRL-8271-3]

Draft Guidance for Munitions and Explosives of Concern Hazard Assessment

AGENCY: Environmental Protection Agency.

ACTION: Notice of availability for public comment.

SUMMARY: This notice announces the availability of the Draft Guidance for Munitions and Explosive of Concern Hazard Assessment (Guidance) for public comment. The Guidance was jointly developed by the Environmental Protection Agency (EPA), Department of Defense, Department of the Interior, and Association of State and Territorial Solid Waste Management Officials. The Guidance is available to support a recommended method for evaluating explosive safety hazards at military munitions response sites. It also presents approaches to support the evaluation of the effects of removal and remedial actions under the Comprehensive Environmental Restoration, Compensation, and Liability Act (CERCLA) regarding explosive hazards at munitions response sites. EPA is providing the public an opportunity to review and comment on the draft Guidance. The Guidance, comment form, and related materials can be found on EPA's Web site at http://www.epa.gov/fedfac/documents/hazard_assess_wrkgrp.htm.

DATES: Comments must be received by March 23, 2007.

ADDRESSES: Submit your comments to EPA using the comment form and instructions on our Web site at http://www.epa.gov/fedfac/documents/hazard_assess_wrkgrp.htm .

FOR FURTHER INFORMATION CONTACT: For additional information on the draft Munitions and Explosives of Concern Hazard Assessment, please contact Kevin Oates at oates.kevin@epa.gov, or 334-270-3427, U.S. Environmental Protection Agency, Mail Code 5106P, 1200 Pennsylvania Avenue, NW., Washington, DC 20460.

SUPPLEMENTARY INFORMATION: Once the draft Guidance is finalized, paper copies will be available from the National Service Center for Environmental Publications (NSCEP), EPA's publications distribution warehouse. You may request copies from NSCEP by calling 1-800-490-9198; writing to U.S. EPA/NSCEP, Box 42419, Cincinnati, OH 45242-0419; or faxing your request to NSCEP at 513-489-8695.

Background

In May 2004, EPA convened a technical working group (TWG) with personnel from the Department of Defense, the Department of the Interior, the Association of State and Territorial Solid Waste Management Officials, and the Tribal Association for Solid Waste and Emergency Response. The TWG was tasked with developing a recommended methodology to evaluate explosive safety hazards at munitions response sites. When finalized the methodology developed by the TWG and the work group organizations will be available to evaluate baseline explosive hazards at munitions response sites, and to evaluate the effects of removal or remedial actions under CERCLA, including changes to land use and land use activities. As part of this effort, the TWG developed additional information that can be found on the EPA Web site listed above.

EPA is requesting public comment on the draft Guidance. An electronic comment form is posted on the same link as the draft Guidance. To be considered, all comments must be provided on this comment form and submitted to the email address provided on the form.

After considering the comments, EPA, the Department of Defense, and the Department of the Interior will make available a final Munitions and Explosives of Concern Hazard Assessment document issued as joint guidance.

Dated: January 11, 2007.
Gail A. Cooper,
Acting Director, Federal Facilities Restoration & Reuse Office.

[FR Doc. E7-835 Filed 1-19-07; 8:45 am]

BILLING CODE 6560-50-P